DEPARTMENT OF AGRICULTURE

Forest Service

National Urban and Community Forestry Advisory Council

AGENCY: Forest Service, USDA.

ACTION: Notice of meeting.

SUMMARY: The National Urban and Community Forestry Advisory Council (Council) will meet on November 5 and 7, 2014. The Council is authorized under Section 9 of the Cooperative Forestry Assistance Act, as amended by Title XII, Section 1219 of Public Law 101-624 (the Act) (16 U.S.C. 2105g) and the Federal Advisory Committee Act of 1972 (5 U.S.C. App. II). The purpose of the Committee is to: (a) Develop a national urban and community forestry action plan in accordance with Section 9(g)(3)(A-F) of the Act; (b) evaluate the implementation of that plan; and (c) develop criteria for, and submit reccomendations with respect to the urban and community forestry challenge cost-share program as required by Section 9(f)(1-2) of the Act. The meeting is open to the public.

Additional information concerning the Council, can be found by visiting the Council's Web site at: http://www.fs.fed.us/ucf/nucfac.shtml.

DATES: The meeting will be held Wednesday, November 5, 2014 at 1:00 p.m.-5:00 p.m., and Friday, November 7, 2014 at 9:00 a.m.-12:00 p.m., or until Council business is completed. All Council meetings are subject to cancellation. For status of the meetings prior to attendance, please contact the person listed under For Further Information Contact.

ADDRESSES: The meeting will be held at The Westin Charlotte Hotel, Harris Room—Second Floor, 601 S. College Street, Charlotte, North Carolina 28202 on November 5, 2014 and the Providence Ballroom I—First Floor on November 7, 2014. Written comments may be submitted as described under Supplementary Information. All comments, including names and addresses when provided, are placed in the record and are available for public inspection and copying. The public may inspect comments received at the Forest Service. Visitors are encouraged to call ahead to facilitate entry into the Forest Service building.

FOR FURTHER INFORMATION CONTACT: Nancy Stremple, Executive Staff to the National Urban and Community Forestry Advisory Council, Yates Building (3NW), 201 14th Street SW., Washington, DC 20250; or by phone at 202-205-7829, or by cell phone at 202-309-9873. Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

(1) Provide orientation for new members,

(2) Introduce the facilitator for the development of the next National Urban Forestry Ten Year Action Plan,

(3) Finalize the work plan action items,

(4) Discuss and approve the 2016 grant categories,

(5) Receive information from members of the urban forestry community of practice,

(6) Receive Forest Service updates on program activities, partnerships, and budgets, and

(7) Approve the annual accomplishments and recommendations report.

The agenda will include time for people to make oral statements of three minutes or less. Individuals wishing to make an oral statement should request in writing within 7 days of the meeting to be scheduled on the agenda. Council discussion is limited to Forest Service staff and Council members; however, persons who wish to bring urban and community forestry matters to the attention of the Council may file written statements with the Council staff before or after the meeting. Written comments and time request for oral comments must be sent to Nancy Stremple, Executive Staff to the National Urban and Community Forestry Advisory Council, Yates Building (3NW), 201 14th Street SW., Washington, DC 20250, or by email to nstremple@fs.fed.us, or via facsimile to 202-690-5792. Summary/minutes of the meeting will be posted on the following Web site: http://www.fs.fed.us/ucf/nucfac.shtml within 45 days after the meeting.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: September 30, 2014.
Debra S. Pressman,
Acting Associate Deputy Chief, State and Private Forestry.

[FR Doc. 2014-23745 Filed 10-3-14; 8:45 am]

BILLING CODE 3411-15-P